DEPARTMENT OF ENERGY

Federal Energy Regulatory Commission

[Docket No. ER01-734-001]

New York State Electric & Gas Corporation; Notice of Filing

February 15, 2001.

Take notice that on February 8, 2001, New York State Electric & Gas Corporation (NYSEG) on February 8, 2001 tendered for filing a fully executed service agreement (Service Agreement) between NYSEG and Conectiv Energy Supply, Inc. (Conectiv) pursuant to section 35.13 of the Federal Energy Regulatory Commission's (Commission's) Regulations, 18 CFR 35.13. NYSEG originally filed a partially executed Service Agreement with the Commission on December 20, 2000 pursuant to Part 35 of the Commission's Regulations, 18 CFR part 35. As of the date of this submission, the Commission had not accepted the Service Agreement with the requested effective date of December 21, 2000. Under the Service Agreement, NYSEG may provide capacity and/or energy to Conectiv in accordance with NYSEG's FERC Electric Tariff, Original Volume No. 3.

NYSEG has requested that the Commission accept the fully executed Service Agreement and that the Service Agreement be given an effective date of December 21, 2000, the effective date originally requested by NYSEG when it filed the partially executed Service Agreement.

NYSEG has served copies of the filing upon the New York State Public Service Commission and Conectiv.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before March 1, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 01-4345 Filed 2-21-01; 8:45 am]

BILLING CODE 6717-01-M